DEPARTMENT OF COMMERCE

National Oceanic and Atmospheric Administration

50 CFR Part 660

[Docket No. 100804324-1496-05]

RIN 0648-BA01

Magnuson-Stevens Act Provisions; Fisheries Off West Coast States; Pacific Coast Groundfish Fishery; Biennial Specifications and Management Measures; Correction

AGENCY: National Marine Fisheries Service (NMFS), National Oceanic and Atmospheric Administration (NOAA), Commerce.

ACTION: Final rule; correcting amendment.

SUMMARY: This document contains corrections to the final regulations that were published on May 11, 2011. That final rule established the 2011-2012 harvest specifications and management measures for groundfish taken in the U.S. exclusive economic zone (EEZ) off the coasts of Washington, Oregon, and California. This action provides nine corrections to the regulations, all of which are either mis-designated paragraphs, transposed numbers, removal of text that was mistakenly left in, or addition of text that was mistakenly left out.

DATES: Effective September 2, 2011.

FOR FURTHER INFORMATION CONTACT: Gretchen Hanshew (Northwest Region, NMFS), phone: 206-526-6147; fax: 206-526-6736 and; e-mail: gretchen.hanshew@noaa.gov.

SUPPLEMENTARY INFORMATION:

Background

On May 11, 2011, NMFS published a final rule (76 FR 27508) to establish the 2011-2012 harvest specifications and management measures for groundfish taken in the EEZ off the coasts of Washington, Oregon, and California. NMFS accepted public comment on the proposed rule and responded to these comments in the preamble to the final rule. Those final regulations revised portions of 50 CFR 660, Subparts C through G, and are the subject of this correcting amendment. These regulations affect persons operating fisheries for groundfish species off the U.S. West Coast. As published, the final regulations contain errors that may mislead the public and need to be corrected. Additionally, there are differences between the text of the final rule and current codified regulations that resulted from incorrect amendatory instructions in the final rule. This action implements a total of nine corrections to the regulations, all of which are either mis-numbered paragraphs, transposed numbers, removal of text that was mistakenly left in, or addition of text that was mistakenly left out.

This action makes four corrections to coordinates in § 660.72, § 660.73, and § 660.74. The coordinates are expressed in degrees latitude and longitude, and define large-scale boundaries utilized in management of the groundfish fishery. These sections contain lists of coordinates, expressed in degrees latitude and longitude, which define large-scale boundaries for Rockfish Conservation Areas off the Pacific coast. The first correction is to reinstate paragraphs § 660.72(f)(143)-(145), which were mistakenly removed in the final rule as a result of incorrect amendatory language. Because of this mistake, these paragraphs in the Code of Federal Regulations (CFR) were “reserved” instead of being redesignated. This correction will establish the appropriate coordinates in those paragraphs that are currently “reserved.” Additionally, corrections are needed to § 660.72(j) and § 660.73(d), where incorrect and transposed coordinate numbers were listed in the final rule and need to be corrected to define the intended boundary lines. Finally, a correction is needed to § 660.74(g) to publish the coordinates in the correct order. The coordinates that published in the final rule were the correct numbers, but were listed in the wrong order. All the corrections made by this rule do not change the intent or application of the geographic area described in the proposed and final rule.

This action also makes five corrections to § 660.360, which provides the regulations for the recreational fisheries in Washington and California. This rule makes no corrections to the regulations for the recreational fisheries in Oregon. Four of these five changes reinstate regulatory language that was published in the final rule (76 FR 27508). The amendatory instructions as published in the proposed rule (75 FR 67810) were correct and would have amended the codified regulations as intended. However, due to an administrative error, the final rule contained the incorrect amendatory instructions resulting in the final rule either making changes that were incorrect or omitting changes to the codified regulations. This final rule corrects these errors. One correction revises § 660.360(c)(1)(iv), which was correctly redesignated in the final rule but was not appropriately revised due to missing amendatory instructions; the correct text published in the final rule on page 27560. Another correction is to § 660.360(c)(3)(ii)(B), this paragraph was not revised in the codified regulations. The correct text was published in the final rule on page 27562. Finally, text at § 660.360(c)(3)(iii)(A)(1)-(5) was not revised and paragraph (c)(3)(iii)(A)(6) was not removed. The correct regulatory text was listed on page 27562 of the final rule; however a mistake in the amendatory language resulted in the CFR not being updated with the regulations as published in the final rule.

Another correction is to § 660.360(c)(3)(i)(A)(5); this paragraph was revised between the proposed and final rule, as described in the preamble of the final rule in the “Changes from the Proposed Rule” section; however the last line of the paragraph was mistakenly left the same as the proposed rule. As published, the regulations in this paragraph directly contradict the changes described in the preamble of the proposed rule, as well as the regulations at § 660.360(c)(3)(i)(B), and would be confusing to the public if it is not corrected.

Classification

The Assistant Administrator for Fisheries, NOAA (AA) finds good cause under 5 U.S.C. 553(b)(B), to waive the requirement for prior notice and opportunity for public comment for this action because notice and comment would be unnecessary, impracticable, and contrary to the public interest. Notice and comment are unnecessary, impracticable, and contrary to the public interest because this action simply makes the text of the codified regulations consistent with the text in the final rule, and makes corrections to accurately reflect the intent of the final rule. This correction eliminates inconsistencies between the regulatory text contained in the final rule and the codified regulations, and therefore eliminates any confusion that the inconsistency might create for the public. If this rule is not implemented immediately, the public will have incorrect information regarding boundaries used for groundfish fisheries management, which will cause confusion and will be inconsistent with the intent of the final rule. Similarly, the corrections to the recreational fishery regulations merely implement the intended language as contained and described in the final rule, and will eliminate any confusion caused by the discrepancy. No aspect of this action is controversial and no change in operating practices in the fishery is required from those intended in the final rule.

For the same reasons, pursuant to 5 U.S.C. 553(d), the AA finds good cause to waive the 30-day delay in effective date. If this rule is not implemented immediately, the public will have incorrect information regarding the boundaries used to manage the groundfish fishery and incorrect information about recreational regulations off the coasts of Washington and California, which will cause confusion and would be inconsistent with the final rule.

Because prior notice and opportunity for public comment are not required for this rule by 5 U.S.C. 553, or any other law, the analytical requirements of the Regulatory Flexibility Act, 5 U.S.C. 601 et seq. are inapplicable.

This final rule has been determined to be not significant for purposes of Executive Order 12866.

List of Subjects in 50 CFR Part 660

Fisheries, Fishing, Indian fisheries.

Dated: August 29, 2011.
Samuel D. Rauch III,
Deputy Assistant Administrator for Regulatory Programs, National Marine Fisheries Service.

For reasons set out in the preamble, 50 CFR part 660 is amended by making the following correcting amendments:

PART 660—FISHERIES OFF WEST COAST STATES

1. The authority citation for part 660 continues to read as follows:

Authority: 16 U.S.C. 1801 et seq., 16 U.S.C. 773 et seq., and 16 U.S.C. 7001 et seq.

2. In § 660.72 paragraphs (f)(143) through (f)(145) are added and paragraph (j)(17) is revised to read as follows:

§ 660.72 Latitude/longitude coordinates defining the 50 fm (91 m) through 75 fm (137 m) depth contours.

* * * * *

(f) * * *

(143) 36°10.42′ N. lat., 121°42.90′ W. long.;

(144) 36°02.55′ N. lat., 121°36.35′ W. long.;

(145) 36°01.09′ N. lat., 121°36.41′ W. long.;

* * * * *

(j) * * *

(17) 48°10.00′ N. lat., 124°57.54′ W. long;

* * * * *

3. In § 660.73 paragraphs (d)(136) through (d)(137) are revised to read as follows:

§ 660.73 Latitude/longitude coordinates defining the 100 fm (183 m) through 150 fm (274 m) depth contours.

* * * * *

(d) * * *

(136) 43°55.73′ N. lat., 124°55.41′ W. long.;

(137) 43°54.74′ N. lat., 124°53.15′ W. long.;

* * * * *

4. In § 660.74 paragraphs (g)(137) through (g)(139) are revised to read as follows:

§ 660.74 Latitude/longitude coordinates defining the 180 fm (329 m) through 250 fm (457 m) depth contours.

* * * * *

(g) * * *

(137) 40°16.94′ N. lat., 124°32.00′ W. long.;

(138) 40°17.58′ N. lat., 124°45.30′ W. long.;

(139) 40°14.40′ N. lat., 124°35.82′ W. long.;

* * * * *

5. In § 660.360, paragraph (c)(3)(iii)(A)(6) is removed and paragraphs (c)(1)(iv) introductory text, (c)(3)(i)(A)(5), (c)(3)(ii)(B), and (c)(3)(iii)(A)(1) through (5), are revised to read as follows:

§ 660.360 Recreational fishery—management measures.

* * * * *

(c) * * *

(1) * * *

(iv) Lingcod. In areas of the EEZ seaward of Washington that are open to recreational groundfish fishing and when the recreational season for lingcod is open, there is a bag limit of 2 lingcod per day. The recreational fishing seasons and size limits for lingcod are as follows:

* * * * *

(3) * * *

(i) * * *

(A) * * *

(5) South of 34°27′ N. lat. (Southern Management Area), recreational fishing for all groundfish (except California scorpionfish as specified below in this paragraph and in paragraph (c)(3)(v) of this section and “other flatfish” as specified in paragraph (c)(3)(iv) of this section) is prohibited seaward of a boundary line approximating the 60 fm (110 m) depth contour from March 1 through December 31 along the mainland coast and along islands and offshore seamounts, except in the CCAs where fishing is prohibited seaward of the 20 fm (37 m) depth contour when the fishing season is open (see paragraph (c)(3)(i)(B) of this section). Recreational fishing for all groundfish (except California scorpionfish and “other flatfish”) is closed entirely from January 1 through February 28 (i.e., prohibited seaward of the shoreline). Recreational fishing for California scorpionfish south of 34°27′ N. lat. is prohibited seaward of a boundary line approximating the 60 fm (110 m) depth contour from January 1 through December 31, except in the CCAs where fishing is prohibited seaward of the 20 fm (37 m) depth contour when the fishing season is open.

* * * * *

(ii) * * *

(B) Bag limits, hook limits. In times and areas when the recreational season for the RCG Complex is open, there is a limit of 2 hooks and 1 line when fishing for the RCG complex and lingcod. The bag limit is 10 RCG Complex fish per day coastwide. Retention of canary rockfish, yelloweye rockfish, bronzespotted and cowcod is prohibited. Within the 10 RCG Complex fish per day limit, no more than 2 may be bocaccio, no more than 2 may be greenling (kelp and/or other greenlings) and no more than 3 may be cabezon. Multi-day limits are authorized by a valid permit issued by California and must not exceed the daily limit multiplied by the number of days in the fishing trip.

* * * * *

(iii) * * *

(A) * * *

(1) Between 42° N. lat. (California/Oregon border) and 40°10.00′ N. lat. (Northern Management Area), recreational fishing for lingcod is open from May 14, 2011 through October 31, 2011 (i.e. it's closed from January 1 through May 13 and from November 1 through December 31 in 2011) and from May 12, 2012 through October 31, 2012 (i.e. it's closed from January 1 through May 11 and from November 1 through December 31 in 2012).

(2) Between 40°10′ N. lat. and 38°57.50′ N. lat. (Mendocino Management Area), recreational fishing for lingcod is open from May 14, 2011 through August 15, 2011 (i.e. it's closed from January 1 through May 13 and August 16 through December 31 in 2011) and from May 12, 2012 through August 15, 2012 (i.e. it's closed from January 1 through May 11 and August 16 through December 31 in 2012).

(3) Between 38°57.50′ N. lat. and 37°11′ N. lat. (San Francisco Management Area), recreational fishing for lingcod is open from June 1 through December 31 (i.e. it's closed from January 1 through May 31).

(4) Between 37°11′ N. lat. and 34°27′ N. lat. (Central Management Area), recreational fishing for lingcod is open from May 1 through December 31 (i.e. it's closed from January 1 through April 30).

(5) South of 34°27′ N. lat. (Southern Management Area), recreational fishing for lingcod is open from March 1 through December 31 (i.e. it's closed from January 1 through February 28).

* * * * *

[FR Doc. 2011-22584 Filed 9-1-11; 8:45 am]

BILLING CODE 3510-22-P